DEPARTMENT OF COMMERCE

International Trade Administration

[A-201-817]

Notice of Final Results and Partial Rescission of Antidumping Duty Administrative Review: Certain Oil Country Tubular Goods from Mexico

AGENCY: Import Administration, International Trade Administration, Department of Commerce.

SUMMARY: On May 12, 2006, the U.S. Department of Commerce (the Department) published the preliminary results of the administrative review of the antidumping order covering certain oil country tubular goods from Mexico. See Certain Oil Country Tubular Goods from Mexico; Preliminary Results of Antidumping Duty Administrative Review and Partial Rescission, 71 FR 27676 (May 12, 2006) (“Preliminary Results”). The review covers producers Hylsa, S.A. de C.V. (“Hylsa”) and Tubos de Acero de Mexico, S.A. (“Tamsa”). The period of review (“POR”) is August 1, 2004, through July 31, 2005. We invited parties to comment on our Preliminary Results. Based on our analysis of comments received, we made one change in the margin calculation, but the margin remained unchanged from the preliminary results. The final results are listed below in the “Final Results of Review” section.

EFFECTIVE DATE: September 18, 2006.

FOR FURTHER INFORMATION CONTACT: Stephen Bailey or David Kurt Kraus, AD/CVD Operations, Office 7, Import Administration, International Trade Administration, U.S. Department of Commerce, 14th Street and Constitution Avenue, NW., Washington, DC 20230; telephone: (202) 482-0193 or (202) 482-7871, respectively.

SUPPLEMENTARY INFORMATION:

Background

On May 12, 2006, we published in the Federal Register the preliminary results of this antidumping review. See Preliminary Results. In response to our Preliminary Results, on June 12, 2006, we received case briefs from Hylsa and U.S. Steel (“petitioner”). On June 12, 2006, both Hylsa and petitioner requested a public hearing. On June 15, 2006, both Hylsa and petitioner withdrew their requests for a hearing. Both parties submitted rebuttal briefs on June 19, 2006.

Partial Rescission

In our preliminary results, we announced our preliminary decision to rescind the review with respect to Tamsa because Tamsa had no entries of oil country tubular goods from Mexico during the POR. See Preliminary Results. We have received no new information contradicting the decision. Therefore, we are rescinding the administrative review with respect to Tamsa.

Scope of the Order

The merchandise covered by this order is oil country tubular goods (OCTG), hollow steel products of circular cross-section, including oil well casing and tubing of iron (other than cast iron) or steel (both carbon and alloy), whether seamless or welded, whether or not conforming to American Petroleum Institute (API) or non-API specifications, whether finished or unfinished (including green tubes and limited-service OCTG products). The scope of this order does not cover casing or tubing pipe containing 10.5 percent or more of chromium, or drill pipe. The OCTG subject to this order are currently classified in the Harmonized Tariff Schedule of the United States (HTSUS) under item numbers: 7304.29.10.10, 7304.29.10.20, 7304.29.10.30, 7304.29.10.40, 7304.29.10.50, 7304.29.10.60, 7304.29.10.80, 7304.29.20.10, 7304.29.20.20, 7304.29.20.30, 7304.29.20.40, 7304.29.20.50, 7304.29.20.60, 7304.29.20.80, 7304.29.30.10, 7304.29.30.20, 7304.29.30.30, 7304.29.30.40, 7304.29.30.50, 7304.29.30.60, 7304.29.30.80, 7304.29.40.10, 7304.29.40.20, 7304.29.40.30, 7304.29.40.40, 7304.29.40.50, 7304.29.40.60, 7304.29.40.80, 7304.29.50.15, 7304.29.50.30, 7304.29.50.45, 7304.29.50.60, 7304.29.50.75, 7304.29.60.15, 7304.29.60.30, 7304.29.60.45, 7304.29.60.60, 7304.29.60.75, 7305.20.20.00, 7305.20.40.00, 7305.20.60.00, 7305.20.80.00, 7306.20.10.30, 7306.20.10.90, 7306.20.20.00, 7306.20.30.00, 7306.20.40.00, 7306.20.60.10, 7306.20.60.50, 7306.20.80.10, and 7306.20.80.50. The Department has determined that couplings, and coupling stock, are not within the scope of the antidumping order on OCTG from Mexico. See Letter to Interested Parties; Final Affirmative Scope Decision, August 27, 1998. The HTSUS subheadings are provided for convenience and customs purposes. Our written description of the scope of this order is dispositive.

Analysis of Comments Received

All issues raised in case and rebuttal briefs submitted by parties to this administrative review are addressed in the “Issues and Decision Memorandum” (Decision Memo) from Stephen J. Claeys, Deputy Assistant Secretary for Import Administration, to David M. Spooner, Assistant Secretary for Import Administration, dated September 11, 2006, which is hereby adopted by this notice. The issues the parties have raised and our responses to them are included in the Decision Memo that is attached to this notice as an appendix. Parties can find a complete discussion of all issues raised in this review and the corresponding recommendations in this public memorandum, which is on file in room B-099 of the main Department building. In addition, a complete version of the Decision Memorandum can be accessed directly on the internet at http://ia.ita.doc.gov. The paper copy and electronic version of the Decision Memo are identical in content.

Changes Since the Preliminary Results

Based on our analysis of comments received, we have made the following changes for the final results:

1. We have treated U.S. warranty expense as a direct selling expense.

2. We have excluded imputed inventory carrying cost and imputed credit from the calculation of financial expense for constructed value.

3. We revised Hylsa's profit calculation to reflect the increases in constructed value (RFCV).

Final Results of Review

As a result of our review, we determine that the following weighted-average dumping margin exists for the POR:

Manufacturer/Exporter | Weighted-Average Margin (percent)
Hylsa, S.A. de C.V. | 0.62

Assessment Rates

The Department will determine, and U.S. Customs and Border Protection (CBP) shall assess, antidumping duties on all appropriate entries, pursuant to section 751(a)(1)(B) of the Tariff Act of 1930, as amended (the Act), and 19 CFR 351.212(b). The Department calculated importer-specific duty assessment rates on the basis of the ratio of the total amount of antidumping duties calculated for the examined sales to the total entered value of the examined sales for that importer. The Department clarified its “automatic assessment” regulation on May 6, 2003. See Notice of Policy Concerning Assessment of Antidumping Duties, 68 FR 23954 (May 6, 2003). This clarification applies to entries of subject merchandise during the period of review produced by companies included in these final results for which the reviewed companies did not know their merchandise was destined for the United States. In such instances, we will instruct CBP to liquidate unreviewed entries at the all-others rate if there is no rate for the intermediate (reseller) company(ies) involved in the transaction.

As the merchandise subject to this order is exported from Mexico, pursuant to 19 CFR 356.8, the Department will issue appropriate assessment instructions directly to CBP on or after the 41st day after publication of these final results of review. We will direct CBP to assess the appropriate assessment rate against the entered CBP values for the subject merchandise on each of the importer's entries under the relevant order during the POR.

Cash Deposit Requirements

The following deposit requirements will be effective upon publication of this notice of final results of administrative review for all shipments of OCTG from Mexico entered, or withdrawn from warehouse, for consumption on or after the date of publication, as provided by section 751(a)(1) of the Act: (1) the cash deposit rate for the reviewed company will be the rate shown above; (2) for previously reviewed or investigated companies not listed above, the cash deposit rate will continue to be the company-specific rate published for the most recent period; (3) if the exporter is not a firm covered in this review, a prior review, or the original less-than-fair-value (LTFV) investigation, but the manufacturer is, the cash deposit rate will be the rate established for the most recent period for the manufacturer of the merchandise; and (4) the cash deposit rate for all other manufacturers or exporters will continue to be 23.79 percent. This rate is the “All Others” rate from the LTFV investigation. See Antidumping Duty Order: Oil Country Tubular Goods From Mexico, 60 FR 41056 (August 11, 1995). These deposit requirements shall remain in effect until publication of the final results of the next administrative review.

Notification of Interested Parties

This notice also serves as a final reminder to importers of their responsibility under 19 CFR 351.402(f) to file a certificate regarding the reimbursement of antidumping or countervailing duties prior to liquidation of the relevant entries during this review period. Failure to comply with this requirement could result in the Secretary's presumption that reimbursement of antidumping or countervailing duties occurred and the subsequent assessment of doubled antidumping duties.

This notice also serves as a reminder to parties subject to administrative protective orders (APO) of their responsibility concerning the return or destruction of proprietary information disclosed under APO in accordance with 19 CFR 351.305. Timely written notification of the return or destruction of APO materials or conversion to judicial protective order is hereby requested. Failure to comply with the regulations and terms of an APO is a violation, which is subject to sanction.

These final results are issued and published in accordance with sections 751(a)(1) and 777(i)(1) of the Act.

Dated: September 11, 2006.
David M. Spooner,
Assistant Secretary for Import Administration.

Appendix - Issues and Decision Memorandum

1. Offsetting for Export Sales that Exceed Normal Value

2. Limited-Service and Regular-Grade OCTG

3. Brokerage and Handling

4. Warranty Expenses

5. Steel Scrap Purchases

6. Investment Income

7. Inventory Carrying Cost

[FR Doc. E6-15478 Filed 9-15-06; 8:45 am]

BILLING CODE 3510-DS-S